DEPARTMENT OF TRANSPORTATION

Federal Transit Administration

Clean Fuels Grant Program, Augmented With Discretionary Bus and Bus Facilities Program Funds

AGENCY: Federal Transit Administration (FTA), DOT.

ACTION: Clean Fuels Grant Program: Announcement of Project Selections.

SUMMARY: The U.S. Department of Transportation's (DOT) Federal Transit Administration (FTA) announces the selection of projects for the Clean Fuels Grant program enhanced with Section 5309 Bus and Bus Facilities program funds. On February 7, 2012, FTA published a Notice of Funding Availability (NOFA) for its Clean Fuels Grant program (77 FR 6178). The NOFA explained the requirements and procedures for eligible applicants to apply for the funds made available by the Surface and Air Transportation Programs Extension Act of 2011. In sum, the FY 2012 Clean Fuels Grant Program made available approximately $51.5 million in unallocated Section 5308 Clean Fuels Grant Program funds. As outlined in the NOFA, the Section 5308 funds would be awarded to fund projects in non-attainment and maintenance areas in achieving or maintaining the National Ambient Air Quality Standards for ozone and carbon monoxide and supports emerging clean fuel and advanced propulsion technologies for transit buses and markets for those technologies. Projects in attainment areas were also eligible to apply and if funding was available, would be funded with Section 5309 Bus and Bus Facilities funds.

FOR FURTHER INFORMATION CONTACT: Successful applicants should contact the appropriate FTA Regional office for specific information regarding applying for the funds. A list of Regional offices can be found at www.fta.dot.gov. Unsuccessful applicants may contact Vanessa Williams, Office of Program Management at (202) 366-4818, email: vanessa.williams@dot.gov to arrange a proposal debriefing within 30 days of this announcement. For general program information on the Clean Fuels Grant Program, contact Vanessa Williams, a TDD is available at 1-800-877-8339 (TDD/FIRS).

SUPPLEMENTARY INFORMATION: In response to the NOFA, FTA received 146 eligible proposals requesting $516 million in federal funds, indicating significant demand for funds. Of the proposals submitted, 46 were from attainment areas requesting $124 million and were only considered for Bus and Bus Facilities program funds. Project proposals were evaluated based on the criteria detailed in the February 7, 2012 NOFA. FTA is funding 21 projects in non-attainment and maintenance areas as shown in Table 1 for a total of $51.5 million, and 6 projects in attainment areas as shown in Table 2 for a total of $7.8 million with prior year Section 5309 funds.

Grantees selected for competitive discretionary funding should work with their FTA regional office to finalize the grant application in FTA's Transportation Electronic Award Management system (TEAM) so that funds can be obligated expeditiously. Grant applications must only include eligible activities applied for in the original project application. Funds must be used consistent with the competitive proposal and for the eligible purposes defined under 49 U.S.C. 5308(a)(2) and 5309. In cases where the allocation amount is less than the proposer's requested amount, grantees should work with the regional office to reduce scope or scale the project such that a complete phase or project is accomplished. Grantees are reminded that the 90% provision for biodiesel buses is not available this year, as the language permitting this higher federal share was not included in the 2012 appropriations bill. This change was highlighted in FTA's January 2012 Apportionment Notice, Section III (C). Biodiesel buses remain eligible for an 83% Federal share. A discretionary project identification number has been assigned to each project for tracking purposes and must be used in the TEAM application. Selected projects have pre-award authority no earlier than September 14, 2012. Pre-award authority is also contingent upon other requirements, such as planning and environmental, having been met. For more about FTA's policy on pre-award authority, please see the FTA Fiscal Year 2012 Apportionments, Allocations, and Program notice found in 77 FR 1785 (January 11, 2012). Post-award reporting requirements include submission of the Federal Financial Report and Milestone reports in TEAM as appropriate (see FTA.C.5010.1D). The grantee must comply with all applicable Federal statutes, regulations, executive orders, FTA circulars, and other Federal administrative requirements in carrying out the project supported by the FTA grant. FTA emphasizes that grantees must follow all third-party procurement guidance, as described in FTA.C.4220.1F. Funds allocated in this announcement must be obligated in a grant by September 30, 2014.

Issued in Washington, DC, this 26th day of September, 2012.
Peter Rogoff,
Administrator .

BILLING CODE P

[FR Doc. 2012-24178 Filed 10-1-12; 8:45 am]

BILLING CODE C